DEPARTMENT OF THE INTERIOR

National Park Service

[NPS-WASO-NAGPRA-NPS0028457; PPWOCRADN0-PCU00RP14.R50000]

Notice of Inventory Completion: Arizona State Museum, University of Arizona, Tucson, AZ; Correction

AGENCY: National Park Service, Interior.

ACTION: Notice; correction.

SUMMARY: The Arizona State Museum, University of Arizona has corrected an inventory of human remains and associated funerary objects, published in a Notice of Inventory Completion in the Federal Register on September 10, 2014. This notice corrects the number of associated funerary objects. Lineal descendants or representatives of any Indian Tribe or Native Hawaiian organization not identified in this notice that wish to request transfer of control of these human remains and associated funerary objects should submit a written request to the Arizona State Museum, University of Arizona. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Arizona State Museum, University of Arizona at the address in this notice by September 4, 2019.

ADDRESSES: Claire S. Barker, Repatriation Coordinator, Arizona State Museum, P.O. Box 210026, Arizona State Museum, University of Arizona, Tucson, AZ 85721, telephone (520) 626-0320, email csbarker@email.arizona.edu.

SUPPLEMENTARY INFORMATION: Notice is here given in accordance with the Native American Graves Protection and Repatriation Act (NAGPRA), 25 U.S.C. 3003, of the correction of an inventory of human remains and associated funerary objects under the control of the Arizona State Museum, University of Arizona, Tucson, AZ. The human remains and associated funerary objects were removed from Pima County, AZ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the number of associated funerary objects published in a Notice of Inventory Completion in the Federal Register (79 FR 53761-53767, September 10, 2014). The number of associated funerary objects has increased due to a search through uncatalogued collections. Transfer of control of the items in this correction notice has not occurred.

Correction

In the Federal Register (79 FR 53762, September 10, 2014), column 3, paragraph 3, sentence 7 is corrected by substituting the following sentence:

The 179 associated funerary objects are one animal bone, one bone awl, 172 ceramic sherds, two ceramic vessels, one chipped stone, and two soil samples.

In the Federal Register (79 FR 53764, September 10, 2014), column 2, paragraph 3, sentence 5 is corrected by substituting the following sentence:

The 381 associated funerary objects are 130 animal bones, one bead, one ceramic bowl, five ceramic bowl fragments, one ceramic jar, 124 ceramic sherds, nine lots of charcoal, 108 chipped stones, one clay fragment, and one shell bracelet fragment.

In the Federal Register (79 FR 53766, September 10, 2014), column 2, paragraph 4, sentence 2 is corrected by substituting the following sentence:

Pursuant to 25 U.S.C. 3001(3)(A), the 2,011 objects described in this notice are reasonably believed to have been placed with or near individual human remains at the time of death or later as part of the death rite or ceremony.

Additional Requestors and Disposition

Lineal descendants or representatives of any Indian Tribe or Native Hawaiian organization not identified in this notice that wish to request transfer of control of these human remains and associated funerary objects should submit a written request with information in support of the request to Claire S. Barker, Repatriation Coordinator, Arizona State Museum, P.O. Box 210026, Arizona State Museum, University of Arizona, Tucson, AZ 85721, telephone (520) 626-0320, email csbarker@email.arizona.edu, by September 4, 2019. After that date, if no additional requestors have come forward, transfer of control of the human remains and associated funerary objects to the Ak-Chin Indian Community (previously listed as the Ak Chin Indian Community of the Maricopa (Ak Chin) Indian Reservation, Arizona); Gila River Indian Community of the Gila River Indian Reservation, Arizona; Hopi Tribe of Arizona; Salt River Pima-Maricopa Indian Community of the Salt River Reservation, Arizona; Tohono O'odham Nation of Arizona; and the Zuni Tribe of the Zuni Reservation, New Mexico; hereafter referred to as “The Tribes,” may proceed.

The Arizona State Museum, University of Arizona is responsible for notifying the Tribes that this notice has been published.

Dated: July 16, 2019.
Melanie O'Brien,
Manager, National NAGPRA Program.

[FR Doc. 2019-16688 Filed 8-2-19; 8:45 am]

BILLING CODE 4312-52-P